DEPARTMENT OF TRANSPORTATION

Federal Railroad Administration

[Docket No. FRA-2000-7257, Notice No. 84]

Railroad Safety Advisory Committee; Notice of Meeting Postponement

AGENCY: Federal Railroad Administration (FRA), Department of Transportation (DOT).

ACTION: Notice.

SUMMARY: FRA announces the postponement of the fifty-seventh meeting of the RSAC, a Federal Advisory Committee that develops railroad safety regulations through a consensus process.

DATES: The RSAC meeting scheduled to be held on Thursday, January 26, 2017 is postponed.

FOR FURTHER INFORMATION CONTACT: Kenton Kilgore, RSAC Administrative Officer/Coordinator, FRA, 1200 New Jersey Avenue SE., Mailstop 25, Washington, DC 20590, (202) 493-6286; or Robert Lauby, Associate Administrator for Railroad Safety and Chief Safety Officer, FRA, 1200 New Jersey Avenue SE., Mailstop 25, Washington, DC 20590, (202) 493-6474.

SUPPLEMENTARY INFORMATION: Under Section 10(a)(2) of the Federal Advisory Committee Act (Public Law 92-463), FRA is giving notice of a postponed meeting of the RSAC. The RSAC meeting scheduled to be held on Thursday, January 26, 2017, at the National Association of Home Builders, National Housing Center, located at 1201 15th Street NW., Washington, DC, is postponed and will be rescheduled via another Federal Register Notice.

The RSAC was established to provide advice and recommendations to FRA on railroad safety matters. The RSAC is composed of 59 voting representatives from 38 member organizations, representing various rail industry perspectives. In addition, there are non-voting advisory representatives from the agencies with railroad safety regulatory responsibility in Canada and Mexico, the National Transportation Safety Board, and the Federal Transit Administration. The diversity of the RSAC ensures the requisite range of views and expertise necessary to discharge its responsibilities. See the RSAC Web site for details on prior RSAC activities and pending tasks at http://rsac.fra.dot.gov/. Please refer to the notice published in the Federal Register on March 11, 1996 (61 FR 9740), for additional information about the RSAC.

Robert C. Lauby,
Associate Administrator for Railroad Safety, Chief Safety Officer.

[FR Doc. 2016-30813 Filed 12-21-16; 8:45 am]

BILLING CODE 4910-06-P